DEPARTMENT OF STATE

[Public Notice: 12771]

Notice of Department of State Sanctions Actions Pursuant to the Executive Order Regarding Blocking Property of Weapons of Mass Destruction Proliferators and Their Supporters

SUMMARY: The Department of State is publishing the names of one or more persons that have been placed on the Department of the Treasury's List of Specially Designated Nationals and Blocked Persons (SDN List) administered by the Office of Foreign Assets Control (OFAC) based on the Department of State's determination, in consultation with other departments, as appropriate, that one or more applicable legal criteria of the E.O. regarding blocking property of weapons of mass destruction proliferators and their supporters were satisfied. All property and interests in property subject to U.S. jurisdiction of these persons are blocked, and U.S. persons are generally prohibited from engaging in transactions with them.

DATES: See SUPPLEMENTARY INFORMATION section for applicable date(s).

FOR FURTHER INFORMATION CONTACT: Thomas Zarzecki, Director, Office of Counterproliferation Initiatives, Bureau of Arms Control and Nonproliferation, Department of State, Washington, DC 20520, tel.: (202) 647 7594, email: ISN_Sanctions@state.gov.

SUPPLEMENTARY INFORMATION:

Electronic Availability

The SDN List and additional information concerning OFAC sanctions programs are available on OFAC's website (https://www.treasury.gov/ofac).

Notice of Department of State Actions

On May 12, 2025, the Department of State, in consultation with other departments, as appropriate, determined that the property and interests in property subject to U.S. jurisdiction of the following persons are blocked under the relevant sanctions authority listed below.

Individuals

1. SABER, Sayyed Mohammad Reza Seddighi, Iran; DOB 24 Aug 1974; nationality Iran; Additional Sanctions Information—Subject to Secondary Sanctions; Gender Male; National ID No. 2739202830 (Iran) (individual) [NPWMD] [IFSR].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

2. TALAB, Ahmad Haghighat (a.k.a. SADEGH, Ahmad Haghighat Taleb; a.k.a. TALEB, Ahmad Haghighat), Iran; DOB 12 Oct 1963; POB Borujerd, Iran; nationality Iran; Additional Sanctions Information—Subject to Secondary Sanctions; Gender Male; National ID No. 4131686491 (Iran) (individual) [NPWMD] [IFSR].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

3. MEHDIPUR, Mohammad Reza, Iran; DOB 06 Aug 1975; POB Naein, Iran; nationality Iran; Additional Sanctions Information—Subject to Secondary Sanctions; Gender Male; National ID No. 1249481643 (Iran) (individual) [NPWMD] [IFSR] (Linked To: SHAHID KARIMI GROUP).

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

Entity

1. FUYA PARS PROSPECTIVE TECHNOLOGISTS (a.k.a. POUYA PARS FANAVARAN AYANDEH NEGAR COMPANY; a.k.a. PUYA PARS FANAVARAN AYANDEH NEGAR COMPANY; a.k.a. “IDEAL VACUUM”; a.k.a. “IDEAL VACUUM STORE”), Number 18, 1st Mariam Street, Khayyam Boulevard, Shamsabad Industrial District, Tehran, Iran; Additional Sanctions Information—Subject to Secondary Sanctions; Organization Established Date 12 Feb 2013; National ID No. 14003220702 (Iran); Registration Number 434228 (Iran) [NPWMD] [IFSR].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Iran, a foreign country of proliferation concern.

Paul S. Watzlavick,
Senior Bureau Official, Bureau of Arms Control and Nonproliferation, Department of State.

[FR Doc. 2025-16102 Filed 8-21-25; 8:45 am]

BILLING CODE 4710-26-P